DEPARTMENT OF COMMERCE

National Oceanic and Atmospheric Administration

RIN 0648-XD979

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow four commercial fishing vessels to fish outside of the limited access sea scallop regulations in support of bycatch reduction research.

Regulations under the Magnuson-Stevens Fishery Conservation and Management Act require publication of this notification to provide interested parties the opportunity to comment on applications for proposed Exempted Fishing Permits.

DATES: Comments must be received on or before June 18, 2015.

ADDRESSES: You may submit written comments by any of the following methods:

• Email: nmfs.gar.efp@noaa.gov. Include in the subject line “DA15-036 CFF Dredge Speed on Bycatch Reduction Study EFP.”

• Mail: John K. Bullard, Regional Administrator, NMFS, Greater Atlantic Regional Fisheries Office, 55 Great Republic Drive, Gloucester, MA 01930. Mark the outside of the envelope ” DA15-036 CFF Dredge Speed on Bycatch Reduction Study EFP.”

FOR FURTHER INFORMATION CONTACT: Shannah Jaburek, Fisheries Management Specialist, 978-282-8456.

SUPPLEMENTARY INFORMATION: NOAA awarded the Coonamesset Farm Foundation (CFF) a grant through the 2015 Atlantic sea scallop research set-aside program, in support of a project titled, “Determination of the Impacts of Dredge Speed on Bycatch Reduction and Scallop Selectivity.”

CFF submitted a complete application for an EFP on March 30, 2015. The project would look at how high towing speeds using the Turtle Deflector Dredge (TDD) impact scallop catch per unit of effort, scallop size selectivity, and fish bycatch. The study was funded in response to feedback from the fishing industry that the TDD must be towed at relatively high speeds to perform effectively.

CFF is requesting exemptions that would allow four commercial fishing vessels be exempt from the Atlantic sea scallop days-at-sea (DAS) allocations at 50 CFR 648.53(b); crew size restriction at § 648.51(c); Closed Area I Closed Area at § 648.58(a), Closed Area II Closed Area at § 648.58(b); and Nantucket Lightship Closed Area at § 648.58(c). It would also exempt the from possession limits and minimum size requirements specified in 50 CFR part 648, subparts B and D through O, for sampling purposes only. Any fishing activity conducted outside the scope of the exempted fishing activity would be prohibited.

Four vessels would conduct scallop dredging in June-September 2015, on a total of four 7-day trips, for a total of 28 DAS. Each trip would complete approximately 15 tows per day for an overall total of 420 tows for the project. All trips would take place in the open areas of Southern New England and Georges Bank as well as in Georges Bank scallop closed areas. Trips would be centralized around areas with high yellowtail and winter flounder bycatch and in areas that contain a wide range of scallop sizes to examine changes in size selectivity due to tow speed.

All tows would be conducted with two tandem 15-foot (4.57-meter) TDD dredges for a duration of 60 minutes with a tow speed range of 4-5.5 knots. One dredge would be rigged with a 7-row apron and twine top hanging ratio of 2:1, while the other dredge would be rigged with a 5-row ring apron and 1.5:1 twine top hanging ratio. Both dredge aprons would use 4-inch (10.16-cm) rings. Each tow pair would be conducted in a straight line varying between higher and lower speeds with dredge positions in an AB-BA alternating pattern with a wire scope of three to one plus ten fathoms.

For all tows the sea scallop catch would be counted into baskets and weighed. One basket from each dredge would be randomly selected and the scallops would be measured in 5-mm increments to determine size selectivity. Finfish catch would be sorted by species and then counted, weighed and measured in 1-mm increments. Depending on the volume of scallops and finfish captured, the catch would be subsampled as necessary. No catch would be retained for longer than needed to conduct sampling and no catch would be landed for sale.

Project Catch Estimates
Species | SNE: lbs | SNE: mt | GB: lbs | GB: mt
Scallops | 52,300 | 23.72 | 22,700 | 10.30
Yellowtail | 1,100 | 0.50 | 2,200 | 1.00
Winter Flounder | 400 | 0.18 | 1,300 | 0.59
Windowpane Flounder | 2,800 | 1.27 | 3,000 | 1.36
Monkfish | 3,100 | 1.41 | 9,400 | 4.26
Other Fish | 1,800 | 0.82 | 2,200 | 1.00
Barndoor Skate | 300 | 0.14 | 4,300 | 1.95
NE Skate Complex | 84,000 | 38.10 | 60,900 | 27.62

CFF has requested these exemptions to allow them to conduct experimental dredge towing without being charged DAS, as well as deploy gear in access areas that are currently closed to scallop fishing. Participating vessels would need crew size waivers to accommodate science personnel and possession waivers would enable them to conduct finfish sampling activities.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 29, 2015.
Emily H. Menashes,
Acting Director, Office of Sustainable Fisheries, National Marine Fisheries Service.

[FR Doc. 2015-13468 Filed 6-2-15; 8:45 am]

BILLING CODE 3510-22-P